DEPARTMENT OF HOMELAND SECURITY

Federal Emergency Management Agency

[Docket ID FEMA-2016-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: February 16, 2017.
Roy E. Wright,
Deputy Associate Administrator for Insurance and Mitigation, Department of Homeland Security, Federal Emergency Management Agency.

State and county | Location and case No. | Chief executive officer of community | Community map repository | Effective date of modification | Community No.
Colorado: El Paso (FEMA Docket No.: B-1660) | City of Colorado Springs (16-08-0643P) | The Honorable John Suthers, Mayor, City of Colorado Springs, 30 South Nevada Avenue, Colorado Springs, CO 80903 | Pikes Peak Regional Building, 2880 International Circle, Colorado Springs, CO 80903 | Dec. 23, 2016 | 080060
Connecticut: New Haven (FEMA Docket No.: B-1656) | Town of Guilford (16-01-0895P) | The Honorable Joseph S. Mazza, First Selectman, Town of Guilford Board of Selectmen, 31 Park Street, Guilford, CT 06437 | Town Hall South, 50 Boston Street, Guilford, CT 06437 | Dec. 23, 2016 | 090077
Florida:
Brevard (FEMA Docket No.: B-1656) | City of Titusville (16-04-5333P) | The Honorable James H. Tulley, Jr., Mayor, City of Titusville, P.O. Box 2806, Titusville, FL 32781 | City Hall, 555 South Washington Avenue, Titusville, FL 32796 | Dec. 15, 2016 | 125152
Charlotte (FEMA Docket No.: B-1656) | Unincorporated areas of Charlotte County (16-04-3741P) | The Honorable Bill Truex, Chairman, Charlotte County Board of Commissioners, 18500 Murdock Circle, Suite 536, Port Charlotte, FL 33948 | Charlotte County Community Development Department, 18400 Murdock Circle, Port Charlotte, FL 33948 | Dec. 9, 2016 | 020061
Duval (FEMA Docket No.: B-1660) | City of Jacksonville (16-04-6041P) | The Honorable Lenny Curry, Mayor, City of Jacksonville, 117 West Duval Street, Suite 400, Jacksonville, FL 32202 | Development Services Division, 214 North Hogan Street, Suite 2100, Jacksonville, FL 32202 | Dec. 22, 2016 | 120077
Lee (FEMA Docket No.: B-1656) | City of Sanibel (16-04-4047P) | The Honorable Kevin Ruane, Mayor, City of Sanibel, 800 Dunlop Road, Sanibel, FL 33957 | Building Department, 800 Dunlop Road, Sanibel, FL 33957 | Dec. 6, 2016 | 120402
Lee (FEMA Docket No.: B-1656) | Village of Estero (15-04-9858P) | Mr. Steve Sarkozy, Manager, Village of Estero, 9401 Corkscrew Palms Circle, Estero, FL 33928 | Village Hall, 9401 Corkscrew Palms Circle, Estero, FL 33928 | Dec. 12, 2016 | 120260
Manatee (FEMA Docket No.: B-1649) | City of Bradenton (16-04-2750P) | The Honorable Wayne H. Poston, Mayor, City of Bradenton, 101 Old Main Street West, Bradenton, FL 34205 | City Hall, 101 Old Main Street West, Bradenton, FL 34205 | Dec. 8, 2016 | 120155
Manatee (FEMA Docket No.: B-1649) | Unincorporated areas of Manatee County (16-04-2750P) | The Honorable Vanessa Baugh, Chair, Manatee County Board of Commissioners, P.O. Box 1000, Bradenton, FL 34206 | Manatee County Building and Services Department, 1112 Manatee Avenue West, Bradenton, FL 34205 | Dec. 8, 2016 | 120153
Manatee (FEMA Docket No.: B-1656) | Unincorporated areas of Manatee County (16-04-3945P) | The Honorable Vanessa Baugh, Chair, Manatee County Board of Commissioners, 1112 Manatee Avenue West, Bradenton, FL 34205 | Manatee County Building and Development Services Division, 1112 Manatee Avenue West, Bradenton, FL 34205 | Dec. 20, 2016 | 120153
Monroe (FEMA Docket No.: B-1656) | Village of Islamorada (16-04-5228P) | The Honorable Deb Gillis, Mayor, Village of Islamorada, 86800 Overseas Highway, Islamorada, FL 33036 | Planning and Development Department, 86800 Overseas Highway, Islamorada, FL 33036 | Dec. 5, 2016 | 120424
St. Johns (FEMA Docket No.: B-1649) | Unincorporated areas of St. Johns County (16-04-2941P) | The Honorable Jeb Smith, Chairman, St. Johns County Board of Commissioners, 500 San Sebastian View, St. Augustine, FL 32084 | St. Johns County Building Services Division, 4040 Lewis Speedway, St. Augustine, FL 32084 | Dec. 1, 2016 | 125147
Seminole (FEMA Docket No.: B-1656) | City of Altamonte Springs (16-04-5502P) | The Honorable Patricia Bates, Mayor, City of Altamonte Springs, 225 Newburyport Avenue, Altamonte Springs, FL 32701 | Public Works Department, 950 Calabria Drive, Altamonte Springs, FL 32701 | Dec. 19, 2016 | 120290
Walton (FEMA Docket No.: B-1656) | City of Freeport (16-04-3900P) | The Honorable Sidney R. Barley, Mayor, City of Freeport, P.O. Box 339, Freeport, FL 32439 | City Hall, 112 Highway 20 West, Freeport, FL 32439 | Dec. 9, 2016 | 120319
Georgia: Columbia (FEMA Docket No.: B-1656) | Unincorporated areas of Columbia County (16-04-5385P) | The Honorable Ron C. Cross, Chairman, Columbia County Board of Commissioners, P.O. Box 498, Evans, GA 30809 | Columbia County Engineering Services Department, Building A, East Wing, 630 Ronald Reagan Drive, Evans, GA 30809 | Dec. 8, 2016 | 130059
Kentucky: Fayette (FEMA Docket No.: B-1656) | Lexington-Fayette Urban County Government (16-04-2392P) | The Honorable Jim Gray, Mayor, Lexington-Fayette, Urban County Government, 200 East Main Street, Lexington, KY 40507 | City Hall, 200 East Main Street, Lexington, KY 40507 | Dec. 2, 2016 | 210067
Massachusetts:
Essex (FEMA Docket No.: B-1656) | City of Gloucester (16-01-0697P) | The Honorable Sefatia Romeo Theken, Mayor, City of Gloucester, 9 Dale Avenue, Gloucester, MA 01930 | City Hall, 9 Dale Avenue, Gloucester, MA 01930 | Dec. 16, 2016 | 250082
Essex (FEMA Docket No.: B-1656) | Town of Manchester-by-the-Sea (16-01-0697P) | The Honorable Eli G. Boling, Chairman, Town of Manchester-by-the-Sea, Board of Selectmen, 10 Central Street, Manchester-by-the-Sea, MA 01944 | Town Hall, 10 Central Street, Manchester-by-the-Sea, MA 01944 | Dec. 16, 2016 | 250090
New Mexico:
Bernalillo (FEMA Docket No.: B-1656) | City of Albuquerque (16-06-1045P) | The Honorable Richard J. Berry, Mayor, City of Albuquerque, P.O. Box 1293, Albuquerque, NM 87103 | Development and Building Services Division, 600 2nd Street Northwest, Albuquerque, NM 87103 | Dec. 13, 2016 | 350002
Santa Fe (FEMA Docket No.: B-1656) | City of Santa Fe (16-06-2549P) | The Honorable Javier M. Gonzales, Mayor, City of Santa Fe, P.O. Box 909, Santa Fe, NM 87501 | Land Use Department, Technical Review Division, 200 Lincoln Avenue, Santa Fe, NM 87501 | Dec. 19. 2016 | 350070
North Carolina:
Alamance (FEMA Docket No.: B-1656) | Unincorporated areas of Alamance County (15-04-9829P) | The Honorable Eddie Boswell, Chairman, Alamance County Board of Commissioners, 124 West Elm Street, Burlington, NC 27253 | Alamance County Inspections and Address Department, 215 North Graham Hopedale Road, Burlington, NC 27217 | Dec. 8, 2016 | 370001
Graham (FEMA Docket No.: B-1656) | Unincorporated areas of Graham County (16-04-4666P) | The Honorable Jacob Nelms, Chairman, Graham County Board of Commissioners, 12 North Main Street, Robbinsville, NC 28771 | Graham County Emergency Services Division, 70 West Fort Hill Road, Robbinsville, NC 28771 | Dec. 16. 2016 | 370105
McDowell (FEMA Docket No.: B-1656) | Unincorporated areas of McDowell County (16-04-3711P) | The Honorable David N. Walker, Chairman, McDowell County Board of Commissioners, 60 East Court Street, Marion, NC 28752 | McDowell County Health Department, 408 Spaulding Road, Marion, NC 28752 | Dec. 14, 2016 | 370148
Randolph (FEMA Docket No.: B-1656) | Unincorporated areas of Randolph County (16-04-3349P) | The Honorable Darrell Frye, Chairman, Randolph County Board of Commissioners, 725 McDowell Road, Ashboro, NC 27205 | Randolph County Planning and Zoning Department, 201 East Academy Street, Ashboro, NC 27203 | Dec. 14, 2016 | 370195
Wake (FEMA Docket No.: B-1656) | Town of Holly Springs (16-04-1838P) | The Honorable Richard G. Sears, Mayor, Town of Holly Springs, P.O. Box 8, Holly Springs, NC 27540 | Engineering Department, 128 South Main Street, Holly Springs, NC 27540 | Dec. 29, 2016 | 370403
Wake (FEMA Docket No.: B-1649) | Unincorporated areas of Wake County (16-04-1268P) | The Honorable James West, Chairman, Wake County Board of Commissioners, P.O. Box 550, Raleigh, NC 27602 | Wake County Environmental Services Department, 336 Fayetteville Street, Raleigh, NC 27601 | Nov. 21, 2016 | 370368
Wake (FEMA Docket No.: B-1656) | Unincorporated areas of Wake County (16-04-1838P) | The Honorable James West, Chairman, Wake County Board of Commissioners, P.O. Box 550, Raleigh, NC 27602 | Wake County Environmental Services Department, 336 Fayetteville Street, Raleigh, NC 27601 | Dec. 29, 2016 | 370368
Oklahoma: Oklahoma (FEMA Docket No.: B-1649) | City of Oklahoma City (16-06-0948P) | The Honorable Mick Cornett, Mayor, City of Oklahoma City, 200 North Walker Avenue, 3rd Floor, Oklahoma City, OK 73102 | City Hall, 200 North Walker Avenue, 3rd Floor, Oklahoma City, OK 73102 | Dec. 9. 2016 | 405378
Pennsylvania:
Adams (FEMA Docket No.: B-1660) | Township of Hamilton (16-03-0904P) | The Honorable Stephanie Egger, Chair, Township of Hamilton Board of Supervisors, 272 Mummerts Church Road, Abbottstown, PA 17301 | Township Hall, 272 Mummerts Church Road, Abbottstown, PA 17301 | Dec. 20, 2016 | 420002
Allegheny (FEMA Docket No.: B-1656) | City of Pittsburgh (16-03-0541P) | The Honorable William Peduto, Mayor, City of Pittsburgh, CityCounty Building, Room 512, 414 Grant Street, Pittsburgh, PA 15219 | City County Building, 414 Grant Street, Pittsburgh, PA 15219 | Dec. 19, 2016 | 420063
Mercer (FEMA Docket No.: B-1649) | Borough of Grove City (16-03-0874P) | The Honorable Randy L. Riddle, Mayor, Borough of Grove City, 123 West Main Street, Grove City, PA 16127 | Borough Municipal Building, 123 West Main Street, Grove City, PA 16127 | Dec. 1, 2016 | 420675
Mercer (FEMA Docket No.: B-1649) | Township of Pine (16-03-0874P) | The Honorable Joseph N. Holmes, Chairman, Township of Pine Board of Supervisors, 545 Barkeyville Road, Grove City, PA 16127 | Township Municipal Building, 545 Barkeyville Road, Grove City, PA 16127 | Dec. 1, 2016 | 422284
South Carolina:
Charleston (FEMA Docket No.: B-1656) | Town of Mount Pleasant (16-04-2610P) | The Honorable Linda Page, Mayor, Town of Mount Pleasant, 100 Ann Edwards Lane, Mount Pleasant, SC 29464 | Planning and Development Department, 100 Ann Edwards Lane, Mount Pleasant, SC 29464 | Dec. 8, 2016 | 455417
Charleston (FEMA Docket No.: B-1649) | Town of Sullivan's Island (16-04-5272P) | The Honorable Patrick O'Neil, Mayor, Town of Sullivan's Island, P.O. Box 427, Sullivan's Island, SC 29482 | Town Hall, 2050 B Middle Street, Sullivan's Island, SC 29482 | Dec. 1, 2016 | 455418
Charleston (FEMA Docket No.: B-1656) | Unincorporated areas of Charleston County (16-04-2610P) | The Honorable J. Elliott Summey, Chairman, Charleston County Council, 4045 Bridgeview Drive, Suite B254, North Charleston, SC. 29405 | Charleston County Building Inspection Services Division, 4045 Bridgeview Drive North Charleston, SC. 29405 | Dec. 8, 2016 | 455413
Texas:
Bexar (FEMA Docket No.: B-1649) | City of San Antonio, (16-06-2460P) | The Honorable Ivy R. Taylor, Mayor, City of San Antonio, P.O. Box 839966, San Antonio, TX 78283 | Transportation and Capital Improvements Department, Storm Water Division, 1901 South Alamo Street, 2nd Floor, San Antonio, TX 78204 | Dec. 1, 2016 | 480045
Bexar (FEMA Docket No.: B-1656) | Unincorporated areas of Bexar County (16-06-1257P) | The Honorable Nelson W. Wolff, Bexar County Judge, 101 West Nueva Street, 10th Floor, San Antonio, TX 78205 | Bexar County Public Works Department, 233 North Pecos-La Trinidad Street, Suite 420, San Antonio, TX 78207 | Dec. 6, 2016 | 1 480035
Bexar (FEMA Docket No.: B-1649) | Unincorporated areas of Bexar County (16-06-2349P) | The Honorable Nelson W. Wolff, Bexar County Judge, 101 West Nueva Street, 10th Floor, San Antonio, TX 78205 | Bexar County Public Works Department, 233 North Pecos La Trinidad Street, Suite 420, San Antonio, TX 78207 | Nov. 29, 2016 | 480035
Collin (FEMA Docket No.: B-1656) | City of McKinney (16-06-2498P) | The Honorable Brian Loughmiller, Mayor, City of McKinney, P.O. Box 517, McKinney, TX 75069 | Engineering Department, 221 North Tennessee Street, McKinney, TX 75069 | Dec. 12, 2016 | 480135
El Paso (FEMA Docket No.: B-1656) | City of El Paso (16-06-0755P) | The Honorable Oscar Leeser, Mayor, City of El Paso, 300 North Campbell Street, El Paso, TX 79901 | Development Department, 801 Texas Avenue, El Paso, TX 79901 | Dec. 1, 2016 | 480194
Tarrant (FEMA Docket No.: B-1656) | City of Colleyville (16-06-1876P) | The Honorable Richard Newton, Mayor, City of Colleyville, 100 Main Street, Colleyville, TX 76034 | City Hall, 100 Main Street, Colleyville, TX 76034 | Dec. 22, 2016 | 480590
Travis (FEMA Docket No.: B-1656) | Village of Bee Cave (16-06-0812P) | The Honorable Caroline Murphy, Mayor, Village of Bee Cave, 400 Galleria Parkway, Bee Cave, TX 78738 | Department of Planning and Development, 400 Galleria Parkway, Bee Cave, TX 78738 | Dec. 2, 2016 | 481610
Williamson (FEMA Docket No.: B-1656) | City of Leander (16-06-0760P) | The Honorable Christopher Fielder, Mayor, City of Leander, P.O. Box 319, Leander, TX 78641 | Engineering Department, 200 West Willis Street, Leander, TX 78641 | Dec. 9, 2016 | 481536
Texas: Wilson (FEMA Docket No.: B-1656) | City of La Vernia (16-06-0558P) | The Honorable Robert Gregory, Mayor, City of La Vernia, P.O. Box 225, La Vernia, TX 78121 | City Hall, 102 East Chihuahua Street, La Vernia, TX 78121 | Dec. 8, 2016 | 481050
Utah:
Utah (FEMA Docket No.: B-1656) | City of Saratoga Springs (16-08-0597P) | The Honorable Jim Miller, Mayor, City of Saratoga Springs, 1307 North Commerce Drive, Suite 200, Saratoga Springs, UT 84045 | City Hall, 1307 North Commerce Drive, Suite 200, Saratoga Springs, UT 84045 | Dec. 19, 2016 | 490250
Utah (FEMA Docket No.: B-1656) | Unincorporated areas of Utah County (16-08-0597P) | The Honorable Larry Ellertson, Chairman, Utah County Board of Commissioners, 100 East Center Street, Suite 2300, Provo, Utah 84606 | Utah County Community Development Department, 100 East Center Street, Provo, Utah 84606 | Dec. 19, 2016 | 495517
Virginia:
Arlington (FEMA Docket No.: B-1656) | Unincorporated areas of Arlington County (15-03-3059P) | Mr. Mark Schwartz, Manager, Arlington County, 2100 Clarendon Boulevard, Suite 302, Arlington, VA 22201 | Arlington County Department of Environmental Services, 2100 Clarendon Boulevard, Suite 813, Arlington, VA 22201 | Dec. 2, 2016 | 515520
Loudoun (FEMA Docket No.: B-1656) | Town of Leesburg (16-03-2150P) | The Honorable David Butler, Mayor, Town of Leesburg, 25 West Market Street, Leesburg, VA 20176 | Department of Plan Review, 25 West Market Street, Leesburg, VA 20176 | Dec. 16, 2016 | 510091
Roanoke (FEMA Docket No.: B-1649) | Unincorporated areas of Roanoke County (16-03-0403P) | Mr. Thomas C. Gates, Roanoke County Administrator, 5204 Bernard Drive, Suite 402, Roanoke, VA 24018 | Roanoke County Administration Center, 5204 Bernard Drive, Roanoke, VA 24018 | Dec. 2, 2016 | 510190
Rockingham (FEMA Docket No.: B-1660) | Unincorporated areas of Rockingham County (16-03-2085P) | The Honorable William B. Kyger, Jr., Chairman, Rockingham County Board of Supervisors, 20 East Gay Street, Harrisonburg, VA 22802 | Rockingham County Administration Center, 20 East Gay Street, Harrisonburg, VA 22802 | Dec. 23, 2016 | 510133

[FR Doc. 2017-04830 Filed 3-10-17; 8:45 am]

BILLING CODE 9110-12-P